DEPARTMENT OF THE INTERIOR

National Park Service

[NPS-WASO-NAGPRA-NPS0034425; PPWOCRADN0-PCU00RP14.R50000]

Notice of Inventory Completion Amendment: U.S. Army Corps of Engineers, Mobile District, Mobile, AL

AGENCY: National Park Service, Interior.

ACTION: Notice; amendment.

SUMMARY: In accordance with the Native American Graves Protection and Repatriation Act (NAGPRA), the U.S. Army Corps of Engineers, Mobile District, has amended a Notice of Inventory Completion published in the Federal Register on April 5, 2016. This notice amends the previously reported minimum number of 21 individuals and 5,281 associated funerary objects in a collection removed from the Burnt Village Site 9TP9, Troup County, GA.

DATES: Repatriation of the human remains and associated funerary objects in this notice may occur on or after September 29, 2022.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the amendments and determinations in this notice, including the results of consultation, can be found in the inventory or related records held by the U.S. Army Corps of Engineers, Mobile District.

Amendment

This notice amends the determinations published in a Notice of Inventory Completion in the Federal Register (81 FR 19628-19629, April 5, 2016). Repatriation of the items in the original Notice of Inventory Completion has not occurred. This notice amends the counts of the minimum number of individuals and the number of associated funerary objects as listed in the original notice. From the Burnt Village Site 9TP9, Troup County, GA, 23 individuals were removed (previously identified as 21 individuals). The 5,297 associated funerary objects (previously identified as 5,281 associated funerary objects) are six metal armbands, 37 metal bells, five copper bracelets, 64 metal buckles and fasteners, 34 metal buttons, 14 metal rings, three metal neckbands, 33 metal cone ornaments, 31 metal ornaments, 33 metal tinklers, five metal fragments with beads, 4,067 beads (glass, shell, clay, seed), 11 lots of beads, three shell ornaments, three brass thimbles, three metal nails, two iron knife blade fragments, two horse bridle pieces, three metal tools, 28 pieces of metal/metal fragments, two ceramic balls/knobs, two ceramic bowls, 455 ceramic sherds, six clay fragments, 27 pieces of daub, 14 lithic flakes or shatter, two lithic projectile points, one stone gaming piece, four pipe stems, 19 fragments of fabric, two fragments of fabric with beads, 10 pieces of cord or thread or string, one mirror fragment, three glass fragments, one glass bottle, one cork, seven musket balls, nine gun flints, six unmodified shell pieces, one lot of modified mica, one piece of unmodified mica, 172 unmodified faunal skeletal elements, one modified faunal skeleton element, 24 fire cracked rocks, 89 rocks, four samples of botanical remains, one piece of sandstone, 29 pieces of organic materials (e.g., botanicals and wood), six pieces of charcoal, two pieces of red ochre, two fired rocks, and six samples of charcoal and soil.

Determinations (as Amended)

Pursuant to NAGPRA and its implementing regulations, and after consultation with the appropriate Indian Tribes and Native Hawaiian organizations, the U.S. Army Corps of Engineers, Mobile District, has determined that:

• The human remains described in this amended notice represent the physical remains of 23 individuals of Native American ancestry.

• The 5,297 objects described in this amended notice are reasonably believed to have been placed with or near individual human remains at the time of death or later as part of the death rite or ceremony.

• There is a relationship of shared group identity that can be reasonably traced between the human remains and associated funerary objects described in this notice and The Muscogee (Creek) Nation.

Requests for Repatriation

Written requests for repatriation of the human remains and associated funerary objects in this notice must be sent to Ms. Alexandria Smith, U.S. Army Corps of Engineers, Mobile District, 109 St. Joseph Street, P.O. Box 2288, Mobile, AL 36628-0001, telephone (251) 690-2728, email Alexandria.N.Smith@usace.army.mil. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 29, 2022. If competing requests for repatriation are received, the U.S. Army Corps of Engineers, Mobile District, must determine the most appropriate requestor prior to repatriation. Requests for joint repatriation of the human remains and associated funerary objects are considered a single request and not competing requests. The U.S. Army Corps of Engineers, Mobile District, is responsible for sending a copy of this notice to the Indian Tribes and Native Hawaiian organizations identified in this notice.

Authority: Native American Graves Protection and Repatriation Act, 25 U.S.C. 3003, and the implementing regulations, 43 CFR 10.9, 10.10, 10.13, and 10.14.

Dated: August 24, 2022.
Melanie O'Brien,
Manager, National NAGPRA Program.

[FR Doc. 2022-18736 Filed 8-29-22; 8:45 am]

BILLING CODE 4312-52-P